FEDERAL HOUSING FINANCE BOARD

12 CFR Part 905

[No. 2003-09]

RIN 3069-AB25

Amendments to the Description of Organization and Functions Regulation; Correction

AGENCY: Federal Housing Finance Board.

ACTION: Final rule; correction.

SUMMARY: The Federal Housing Finance Board (Finance Board) is correcting a final rule that appeared in the Federal Register of June 27, 2003. That document revised the Finance Board's Description of Organization and Functions regulation to reflect agency reorganizations that already have taken effect. The document was published with an inadvertent error, which referenced § 905.15 as being revised rather than removed. This document corrects that error.

DATES: The rule was effective June 27, 2003.

FOR FURTHER INFORMATION CONTACT: Mary H. Gottlieb, Paralegal Specialist, Office of General Counsel, by telephone at 202/408-2826, by electronic mail at gottliebm@fhfb.gov, or by regular mail at the Federal Housing Finance Board, 1777 F Street, NW., Washington, DC 20006.

SUPPLEMENTARY INFORMATION: In FR Doc. 03-16317, appearing in the Federal Register of Friday, June 27, 2003 (68 FR 38169), the following correction is made:

On page 38170, in the first column, amendatory instruction No. 6 is corrected to read as follows:

Subpart B—[Corrected]

6. Amend Subpart B of part 905 by revising §§ 905.10 through 905.14, and removing §§ 905.15 through 905.19 to read as follows:

Dated: November 17, 2003.
By the Federal Housing Finance Board.
Arnold Intrater,
General Counsel.

[FR Doc. 03-30180 Filed 12-3-03; 8:45 am]

BILLING CODE 6725-01-P